DEPARTMENT OF VETERANS AFFAIRS

[OMB Control No. 2900-0818]

Agency Information Collection Activity Under OMB Review: VA National Veterans Sports Programs and Special Event Surveys Data Collection

AGENCY: Office of Public & Intergovernmental Affairs, Department of Veterans Affairs.

ACTION: Notice.

SUMMARY: In compliance with the Paperwork Reduction Act (PRA) of 1995, this notice announces that the Office of Public Affairs (OPA), Department of Veterans Affairs, will submit the collection of information abstracted below to the Office of Management and Budget (OMB) for review and comment. The PRA submission describes the nature of the information collection and its expected cost and burden and it includes the actual data collection instrument.

DATES: Comments must be submitted on or before August 31, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0818” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0818” in any correspondence.

SUPPLEMENTARY INFORMATION:

Authority: Public Law 104-13; 44 U.S.C. 3501-3521.

Titles: VA National Veterans Sports Programs and Special Event Surveys.

OMB Control Number: 2900-0818.

Type of Review: Extension without change.

Abstract: The Department of Veterans Affairs (VA) administers National Rehabilitation Special Events for Veterans who are receiving care at VA medical facilities. Each event promotes the healing of body and spirit by motivating Veterans to reach their full potential, improve their independence, and achieve a healthier lifestyle and higher quality of life. Surveys are designed to allow program improvement and measure the tangible, quantifiable benefits of the events using event applications. Information collection is used for the planning, distribution and utilization of resources and to allocate clinical and administrative support to patient treatment services.

An agency may not conduct or sponsor, and a person is not required to respond to a collection of information unless it displays a currently valid OMB control number. The Federal Register Notice with a 60-day comment period soliciting comments on this collection of information was published at 82 FR 96 on May 19, 2017, page 23135.

Affected Public: Individuals or households.

Estimated Annual Burden: 2,782 burden hours.

Estimated Average Burden per Respondent: 2.552 minutes.

(a) National Disabled Veterans Winter Sports Clinic, VA Form 10107 (2.5 min.)

(b) National Veterans Creative Arts Festival, VA Form 10108 (2.25 min.)

(c) National Veterans Golden Age Games, VA Form 10109 (2.5 min.)

(d) National Veterans Summer Sports Clinic, VA Form 10110 (2.25 min.)

(e) National Veterans TEE Tournament, VA Form 10111 (2.75 min.)

(f) National Veterans Wheelchair Games, VA Form 10112 (2.75 min.)

Frequency of Response: 28.75 (annual).

Estimated Number of Respondents: 2275.

By direction of the Secretary.
Cynthia Harvey-Pryor,
Department Clearance Officer, Office of Quality and Compliance, Department of Veterans Affairs.

[FR Doc. 2017-16124 Filed 7-31-17; 8:45 am]

BILLING CODE 8320-01-P